SECURITIES AND EXCHANGE COMMISSION

[File No. 500-1]

In the Matter of Xino Corp. (n/k/a Asher Xino Corp.), Xstream Mobile Solutions Corp., Yellowbubble.com, Inc. (n/k/a Reality Racing, Inc.), Yes! Entertainment Corp., and Yifan Communications, Inc.; Order of Suspension of Trading

April 3, 2009.

It appears to the Securities and Exchange Commission that there is a lack of current and accurate information concerning the securities of Xino Corp. (n/k/a Asher Xino Corp.) because it has not filed any periodic reports since it filed a Form 10-QSB for the period ended September 30, 2002.

It appears to the Securities and Exchange Commission that there is a lack of current and accurate information concerning the securities of Xstream Mobile Solutions Corp. because it has not filed any periodic reports since it filed a Form 10-KSB for the period ended September 30, 2006.

It appears to the Securities and Exchange Commission that there is a lack of current and accurate information concerning the securities of Yellowbubble.com, Inc. (n/k/a Reality Racing, Inc.) because it has not filed any periodic reports since it filed a Form 10-QSB for the period ended March 31, 2001.

It appears to the Securities and Exchange Commission that there is a lack of current and accurate information concerning the securities of Yes! Entertainment Corp. because it has not filed any periodic reports since it filed a Form 10-Q for the period ended September 30, 1998.

It appears to the Securities and Exchange Commission that there is a lack of current and accurate information concerning the securities of Yifan Communications, Inc. because it has not filed any periodic reports since it filed a Form 10-QSB for the period ended March 31, 2006.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on April 3, 2009, through 11:59 p.m. EDT on April 17, 2009.

By the Commission.
J. Lynn Taylor,
Assistant Secretary.

[FR Doc. E9-7984 Filed 4-3-09; 4:15 pm]

BILLING CODE